DEPARTMENT OF HEALTH AND HUMAN SERVICES

National Committee on Vital and Health Statistics; Meeting

Pursuant to the Federal Advisory Committee Act, the Department of Health and Human Services (HHS) announces the following advisory committee meeting.

Name: National Committee on Vital and Health Statistics (NCVHS), Subcommittee on Privacy and Confidentiality.

Time and Date: August 16, 2005, 1:30 p.m.-5 p.m. August 17, 2005, 9 a.m.-5 p.m.

Place: Hotel Monaco, 501 Geary Street, San Francisco, CA 94102, (415) 292-0100.

Status: Open.

Purpose: The meeting will focus on privacy and confidentiality issues related to electronic health records and the development of a National Health Information Network (NHIN). The Subcommittee will hear from witnesses who have been asked to respond to questions posted on the Subcommittee's Web site http://www.ncvhs.hhs.gov/. The questions focus on design options for a NHIN, related privacy and confidentiality concerns, issues around patient control of content and access to NHIN records, and broader issues around privacy and confidentiality of personal health information and building the public trust in the NHIN.

Contact Person for More Information: Substantive program information as well as summaries of meetings and a roster of committee members may be obtained from Maya A. Bernstein, Lead Staff for Subcommittee on Privacy and Confidentiality, Office of the Assistant Secretary for Planning and Evaluation, 434E Hubert H. Humphrey Building, 200 Independence Avenue, SW., 20201; telephone (202) 690-7100; or Marjorie S. Greenberg, Executive Secretary, NCVHS, National Center for Health Statistics, Centers for Disease Control and Prevention, 3311 Toledo Road, Room 2402, Hyattsville, Maryland 20782, telephone (301) 458-4245. Information also is available on the NCVHS home page of the HHS Web site: http://www.ncvhs.hhs.gov/, where further information including an agenda will be posted when available.

Should you require reasonable accommodation, please contact the CDC Office of Equal Employment Opportunity on (301) 458-4EEO (4336) as soon as possible.

Dated: July 29, 2005.
James Scanlon,
Acting Deputy Assistant Secretary for Science and Data Policy, Office of the Assistant Secretary for Planning and Evaluation.

[FR Doc. 05-15454 Filed 8-3-05; 8:45 am]

BILLING CODE 4151-05-M